DEPARTMENT OF TRANSPORTATION

Federal Railroad Administration

[Docket Number FRA-2010-0034]

Petition for Waiver of Compliance

In accordance with part 211 of Title 49 Code of Federal Regulations (CFR), this document provides the public notice that by a document dated July 15, 2011, Port Authority Trans-Hudson Corporation (PATH) has petitioned the Federal Railroad Administration (FRA) for a waiver of compliance from certain provisions of the Federal railroad safety regulations contained at 49 CFR part 236. FRA has previously assigned all PATH Positive Train Control (PTC)-related documentation Docket Number FRA-2010-0034, and is adding this waiver request to that docket.

PATH seeks a waiver from compliance with PTC system requirements found at 49 CFR Section 236.1006, Equipping locomotives operating in PTC territory. Specifically, this petition is made in connection with the implementation of PATH's Automatic Train Control (ATC) project and the plan to use unequipped PA-4 cars as maintenance-of-way (MOW) work equipment. PATH is currently in the process of implementing an ATC system using communications-based train control (CBTC) technology throughout the PATH rail network, as described in the Positive Train Control Implementation and Development Plans previously submitted for FRA approval. As part of that program, PATH will be equipping all A-cars (cab control cars) of the new PA-5 fleet with onboard ATC equipment. By December 31, 2015, PATH's passenger carrying fleet will consist of only multiple-unit train consists made of PA-5 cars, and as such, PATH's operation will be in compliance with the new PTC rule. An important element of the new ATC system implementation at PATH will be the incorporation of a track-circuit-based Secondary Train Detection System (STDS) incorporating wayside signals and automatic train stops (trip stops). The STDS will provide for safe operation of both PA-5 trains with failed ATC equipment, and MOW work equipment that will not be fitted with onboard ATC equipment.

It is PATH's intention to retire the existing PA-4 fleet from passenger service, but to retain some of these PA-4 cars to function as MOW work equipment. PATH will modify the interiors of some of these vehicles so that they are configured to transport tools and equipment. The PA-4 work vehicles would retain their trip cock equipment, and as such, the STDS would provide enforced braking for these vehicles at stop (red) signals. Further, since the PA-4 cars reliably shunt track circuits, they will be continuously detected by both the STDS and the CBTC system, thereby preventing train-to-train collisions.

PATH's justification for relief is that the proposed use of non-equipped PA-4 vehicles for MOW work equipment does not introduce any new or different safety hazards to the existing operation, and provides additional safety elements not available for other types of MOW equipment. The installation of the ATC and/or CBTC systems and the STDS by December 31, 2015, in conjunction with well-established operating rules and procedures, will in fact provide enhanced safety for such operations.

A copy of the petition, as well as any written communications concerning the petition, is available for review online at http://www.regulations.gov and in person at the U.S. Department of Transportation's (DOT) Docket Operations Facility, 1200 New Jersey Avenue, SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received by October 3, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or at http://www.dot.gov/privacy.html.

Issued in Washington, DC, on August 12, 2011.
Robert C. Lauby,
Deputy Associate Administrator for Regulatory and Legislative Operations.

[FR Doc. 2011-21094 Filed 8-17-11; 8:45 am]

BILLING CODE 4910-06-P